NATIONAL SCIENCE FOUNDATION (NSF)

National Science Board; Sunshine Act Meetings; Notice

The National Science Board, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

Agency Holding Meeting: National Science Board.

Date and Time: Tuesday, August 12, 2008, at 8 a.m.; and Wednesday, August 13, 2008 at 8 a.m.

Place: National Science Foundation 4201 Wilson Blvd. Room 1235 Arlington, VA 22230. All visitors must report to the NSF visitor desk at the 9th and N. Stuart Streets entrance to receive a visitor's badge.

Status: Some portions open, some portions closed.

Open Sessions

August 12, 2008

8 a.m.-8:05 a.m.

8:05 a.m.-12 p.m.

1 p.m.-1:45 p.m.

1:45 a.m.-2:45 p.m.

August 13, 2008

8 a.m.-10:30 a.m.

10:30 a.m.-10:45 a.m.

10:45 a.m.-11 a.m.

11 a.m.-12 p.m.

2:30 p.m.-3:30 p.m.

Closed Sessions

August 12, 2008

2:45 p.m.-3 p.m.

3 p.m.-5:45 p.m.

August 13, 2008

12 p.m.-12:30 p.m.

1:30 p.m.-2 p.m.

2 p.m.-2:30 p.m.

Agency Contact: Dr. Robert E. Webber, rwebber@nsf.gov, (703) 292-7000, http://www.nsf.gov/nsb/.

Matters To Be Discussed

Tuesday, August 12, 2008

Open Session: 8 a.m.-8:05 a.m.

Chairman's Introduction

Committee on Programs and Plans (CPP)

Open Session: 8:05 a.m.-12 p.m.

• Approval of May 6, 2008 CPP Minutes

• Committee Chairman's Remarks

• CPP Subcommittee on Polar Issues (SOPI)

○ Approval of May 6, 2008 SOPI Minutes

○ SOPI Chairman's Remarks

○ Director's Report—Office of Polar Programs

• Update on U.S. Antarctic Program Process for Request for Proposals for Support Contractor

• The “I” in International Polar Year (IPY)

○ Fuel Costs, IPY, and USAP Infrastructure & Logistics

• Task Force on Sustainable Energy (SE)

○ Approval of May 6, 2008 SE Minutes

○ SE Co-Chairmen's Remarks

○ Discussion and Summary of June 19, 2008 Roundtable Discussion

○ Discussion of September 4, 2008 Roundtable Discussion

• NSB Action: Report to Congress on Interdisciplinary Research

• NSB Information Item: Competition for the Award of a Cooperative Agreement for the Management and Operation of the National Astronomy and Ionosphere Center (NAIC)

• Discussion Item: Major Research Facilities and Facility Plan

• Discussion Item: Review of MREFC Process

• NSB Item: Examination of Priority Order of MREFC New Starts

• Science Presentation: Dr. Richard Buckius, Assistant Director, ENG, Our World Is Engineered

Plenary Open

Open Session: 1 p.m.-1:45 p.m.

• Presentation by Norman Augustine

Committee on Strategy and Budget (CSB)

Open Session: 1:45 p.m.-2:45 p.m.

• Approval of CSB Minutes, May 6, 2008

• Committee Chairman's Remarks

• CSB Task Force on Cost Sharing (CS)

○ Approval of CS Minutes, May 6, 2008

○ Task Force Chairman's Remarks

○ Discussion of July 9 & 10, 2008 Roundtable Discussions on Cost Sharing

○ Update on Other Information—Gathering Activities

○ Discussion of Draft CS Report Outline

• Draft Board Report “Report to Congress on Limits on Proposal Submissions by Institution”

Committee on Strategy and Budget (CSB)

Closed Session: 2:45 p.m.-3 p.m.

• NSF Budget Development

Committee on Programs and Plans (CPP)

Closed Session: 3 p.m.-5:45 p.m.

• NSB Information Item: High Performance Computing (HPC) Awards

• NSB Action Item: Protein Data Bank Management

• NSB Action Item: General Social Survey

• Overview of Science of Learning Centers Actions

• NSB Action Item: Science of Learning Center Proposal #1

• NSB Action Item: Science of Learning Center Proposal #2

• NSB Action Item: Science of Learning Center Proposal #3

Wednesday, August 13, 2008

Committee on Education and Human Resources (EHR)

Open Session: 8 a.m.-10:30 a.m.

• Approval of May 7, 2008 Minutes

• Committee Chairman's Remarks

• Subcommittee on Science and Engineering Indicators (SEI)

○ Approval of May 6, 2008 SEI Minutes

○ SEI Chairman's Remarks

○ Presentation of Director's Award for Collaborative Integration

○ Overview of the process for producing Science and Engineering Indicators 2010 and the Subcommittee's role

○ Key Board dates and activities for production of Science and Engineering Indicators 2010

○ Introduction of chapter authors and discussion of Science and Engineering Indicators 2010 narrative chapter outlines

○ SEI Chairman's summary

• Discussion: Preparing the Next Generation of STEM Innovators

Task Force on the NSB 60th Anniversary

Open Session: 10:30 a.m.-10:45 a.m.

• Task Force Chairman's Remarks

• Discussion on 60th Anniversary Commemoration

Executive Committee

Open Session: 10:45 a.m.-11 a.m.

• Approval of Minutes for the May 2008 Meeting

• Executive Committee Chairman's Remarks

• Updates or New Business from Committee Members

Committee on Audit and Oversight (A&O)

Open Session: 11 a.m.-12 p.m.

• Approval of Minutes of the May 7, 2008 Meeting

• Committee Chairman's Opening Remarks

• Report by NSF Advisory Committee on GPRA Performance Assessment (Dr. David Spencer)

• Findings from Labor Effort Audit Reports

• Enhancing the Accountability of International Collaborative Research Projects

Closed Session: 12 p.m.-12:30 p.m.

• Pending Investigations

Plenary Executive Closed

Closed Session: 1:30 p.m.-2 p.m.

• Approval of May 2008 Minutes

• Election for Executive Committee

Plenary Closed

Closed Session: 2 p.m.-2:30 p.m.

• Approval of May 2008 Minutes

• Awards and Agreements

• Closed Committee Reports

Plenary Open

Open Session: 2:30 p.m.-3:30 p.m.

• Approval of May 2008 Minutes

• Resolution to Close September 2008 Meeting

• Chairman's Report

• Director's Report

• Open Committee Reports

Ann Ferrante,
Writer/Editor.

[FR Doc. E8-18024 Filed 8-4-08; 8:45 am]

BILLING CODE 7555-01-P